DEPARTMENT OF ENERGY

Federal Energy Regulatory Commission

[Docket Nos. AD22-11-000; AD21-9-000]

Office of Public Participation Fundamentals for Participating in FERC Matters; Notice of OPP Community Connection Event-Southwest Louisiana

The Federal Energy Regulatory Commission's (FERC or Commission) Office of Public Participation (OPP) will host an in-person only “Community Connection Event” in Southwest Louisiana on March 6, 2024. As described below, this event includes educational programming at two different times and locations: in the morning in Sulphur, Louisiana and in the evening in Lake Charles, Louisiana. The public is welcome to attend the event at one or both locations, but please note that the content and format will be the same at each. This event is free and open to the public.

Consistent with OPP's mission to empower, promote, and support public voices at the Commission, the purpose of this event is to provide educational presentations on topics related to FERC staff's environmental review of natural gas pipelines and liquified natural gas (LNG) facilities, as well as public participation opportunities in the siting, construction, and restoration of such FERC-regulated facilities. Additionally, FERC staff will be available for informal discussions and questions. This event is not a public comment session and FERC staff will not receive or record comments for specific proceedings.

Event details, including registration information, can be found on the event-specific website https://www.ferc.gov/OPP/community-connection. This site will be updated frequently and will include all updates, developments, and the final schedule of presentations. Information on this event will also be posted on the FERC Calendar of Events. Lastly, OPP's social media accounts Twitter/X, Instagram, and Facebook will also provide updates.

For accessibility accommodations, please send an email to accessibility@ferc.gov or call toll free (866) 208-3372 (voice) or (202) 502-8659 (TTY) or send a FAX to (202) 208-2106 with the required accommodations.

Morning program, Sulphur | Evening program, Lake Charles
Wednesday, March 6, 2024 | Wednesday, March 6, 2024.
9:00 a.m.-12:00 p.m. (CST) | 4:00 p.m.-7:00 p.m. (CST).
Calcasieu Parish Public Library, Sulphur Regional Branch, 1160 Cypress Street, Sulphur, LA 70663 | Allen P. August Multipurpose Center, 2001 Moeling Street, Lake Charles, LA 70601.

For any questions or requests about this event, please contact the Office of Public Participation at (202) 502-6595 or send an email to OPP@ferc.gov.

Dated: January 31, 2024.
Debbie-Anne A. Reese,
Acting Secretary.

[FR Doc. 2024-02382 Filed 2-5-24; 8:45 am]

BILLING CODE 6717-01-P